DEPARTMENT OF ENERGY

Office of Fossil Energy; National Petroleum Council

AGENCY: Department of Energy.

ACTION: Notice of Charter Renewal.

SUMMARY: Pursuant to section 14(a)(2)(A) of the Federal Advisory Committee Act (Pub. L. No. 92-463) and in accordance with title 41 of the Code of Federal Regulations, section 102-3.65, and following consultation with the Committee Management Secretariat of the General Services Administration, notice is hereby given that the National Petroleum Council has been renewed for a two-year period ending November 7, 2009. The Council will continue to provide advice, information, and recommendations to the Secretary of Energy on matters relating to oil and natural gas, and to all segments of the oil and natural gas industries.

SUPPLEMENTARY INFORMATION: Council members are chosen to assure a well-balanced representation from all segments of the oil and natural gas industries and related interests, from all sections of the United States, and from large and small companies. The Council also includes members representing academia, research and environmental groups, State governments and organizations, and Tribal governments. Membership and representation of all pertinent interests are determined in accordance with the requirements of the Federal Advisory Committee Act and its implementing regulations.

The renewal of the Council has been determined essential to the conduct of the Department's business, and in the public interest in connection with the performance of duties imposed by law upon the Department of Energy. The Council will operate in accordance with the Federal Advisory Committee Act and its implementing regulations.

FOR FURTHER INFORMATION CONTACT: Rachel Samuel at (202) 586-3279.

Issued at Washington, DC, on: November 7, 2007.
Carol A. Matthews,
Acting Committee Management Officer.

[FR Doc. E7-22887 Filed 11-21-07; 8:45 am]

BILLING CODE 6450-01-P